DEPARTMENT OF THE INTERIOR

Fish and Wildlife Service

50 CFR Parts 28 and 29

[Docket No. FWS-HQ-NWRS-2012-0086; FXRS12610900000-167-FF09R24000]

RIN 1018-AX36

Management of Non-Federal Oil and Gas Rights

AGENCY: Fish and Wildlife Service, Interior.

ACTION: Proposed rule; availability of Final Environmental Impact Statement.

SUMMARY: We, the U.S. Fish and Wildlife Service (Service), make available the final environmental impact statement (EIS) on regulations governing the exercise of non-Federal oil and gas rights outside of Alaska in order to improve our ability to protect refuge resources, visitors, and the general public's health and safety from potential impacts associated with non-Federal oil and gas operations located within refuges.

DATES: The Service will execute a Record of Decision no sooner than 30 days from the date of publication of the notice of availability of the FEIS by the Environmental Protection Agency.

ADDRESSES: Copies of the FEIS will be available for public review at http://www.fws.gov/refuges/oil-and-gas/rulemaking.html and at www.regulations.gov at Docket No. FWS-HQ-NWRS-2012-0086.

FOR FURTHER INFORMATION CONTACT: Scott Covington, U.S. Fish and Wildlife Service, Division of Natural Resources and Planning, MS: NWRS, 5275 Leesburg Pike, Falls Church, Virginia 22041; telephone 703-358-2427. If you use a telecommunications device for the deaf (TDD), call the Federal Information Relay Service (FIRS) at 800-877-8339. Further contact information can be found at http://www.fws.gov/refuges/oil-and-gas/rulemaking.html.

SUPPLEMENTARY INFORMATION: Under the authority of the National Environmental Policy Act (NEPA) (42 U.S.C. 4321 et seq.) and the Department of the Interior regulations that implement NEPA (part 46 of title 43 of the Code of Federal Regulations) and the National Wildlife Refuge System Administration Act, as amended by the National Wildlife Refuge System Improvement Act (16 U.S.C. 668dd et seq.), we issue this supplementary document. The Environmental Protection Agency will publish similar notification of this action in the Federal Register.

Background

On February 24, 2014, we issued an advance notice of proposed rulemaking (ANPR) (79 FR 10080) to assist us in developing a proposed rule on managing activities associated with non-Federal oil and gas development on lands and waters of the National Wildlife Refuge System (NWRS). Non-Federal oil and gas development refers to oil and gas activities associated with any private, state, or tribally owned mineral interest where the surface estate is administered by the Service as part of the Refuge System. The ANPR had a 60-day comment period, ending April 25, 2014. On June 9, 2014, we reopened the comment period for another 30 days, ending July 9, 2014 (79 FR 32903). The ANPR requested the public to focus their comments on seven topics identified as major areas of concern: (1) Plans of Operations and Special Use Permits; (2) Operating Standards; (3) Financial Assurances; (4) Access Fees; (5) Noncompliance; (6) Existing Operations; and (7) Impacts from the Proposed Rulemaking.

We published a proposed rule on December 11, 2015 (80 FR 77200), to revise the regulations governing the exercise of non-Federal oil and gas rights located within NWRS units, and we announced the availability of a draft EIS. The comment period closed February 9, 2016. We now announce the availability of the FEIS.

The FEIS evaluates the impacts of three alternatives, including the following alternative elements:

• Requirement that oil operators proposing new oil and gas development (e.g., drilling a well) obtain an operations permit.

• Requirement of financial assurance (bonding). Financial assurance would be equal to the reasonable estimated cost of site reclamation.

• Requirement that all operations, regardless of status, obtain a reclamation permit (including bonding) once that operation ceases to be economically productive.

• Improving enforcement authority by assimilating State oil and gas laws and regulations. Law enforcement staff would have authority to write citations for noncompliance with State regulations, primarily State regulations addressing surface impacts.

• Clarifying our authority to permit an operator access on NWRS units outside the boundary of an operator's mineral right.

• Clarifying the regulations to make it easier to identify an operator's information requirements and operating standards that apply to each type of operation.

Dated: July 29, 2016.
Michael J. Bean,
Principal Deputy Assistant Secretary for Fish and Wildlife and Parks.

[FR Doc. 2016-19519 Filed 8-19-16; 8:45 am]

BILLING CODE 4333-15-P